DEPARTMENT OF THE INTERIOR

Bureau of Land Management

[16X L1109PF LLUTG01100 L13110000.EJ0000 24 1A]

Notice of Availability of the Final Environmental Impact Statement for the Monument Butte Area Oil and Gas Development Project, Duchesne and Uintah Counties, Utah

AGENCY: Bureau of Land Management, Interior.

ACTION: Notice of Availability.

SUMMARY: In accordance with the National Environmental Policy Act of 1969, as amended (NEPA), and the Federal Land Policy and Management Act of 1976, as amended, the Bureau of Land Management (BLM) has prepared a Final Environmental Impact Statement (EIS) for the Monument Butte Area Oil and Gas Development Project and is announcing its availability.

DATES: The BLM will not issue a final decision on the proposal for at least 45 days after the date on which the Environmental Protection Agency publishes its Notice of Availability of the Final EIS in the Federal Register.

ADDRESSES: Copies of the Monument Butte Area Oil and Gas Development Project Final EIS are available for public inspection at the BLM-Vernal Field Office at 170 South 500 East Vernal, Utah 84078. Interested persons may also review the Final EIS on the Internet at http://www.blm.gov/ut/st/en/fo/vernal/planning/nepa_.html.

FOR FURTHER INFORMATION CONTACT: Stephanie Howard, NEPA Coordinator; telephone: 435-781-4469; address 170 South 500 East Vernal, Utah 84078; email BLM_UT_Vernal_Comments@blm.gov. Persons who use a telecommunications device for the deaf (TDD) may call the Federal Information Relay Service (FIRS) at 1-800-877-8339 to contact the above individual during normal business hours. The FIRS is available 24 hours a day, 7 days a week, to leave a message or question with the above individual. Replies are provided during normal business hours.

SUPPLEMENTARY INFORMATION: Newfield Exploration Company (Newfield) submitted oil and gas field development plan for the Monument Butte Project Area (MBPA) to the BLM. The MBPA encompasses approximately 119,784 acres in an already developed field containing approximately 3,209 existing oil and gas wells. The MBPA contemplates the drilling of up to 5,750 new oil and gas wells over a 16-year period, and the construction and operation of ancillary transportation, transmission, processing, and treatment facilities. The MBPA is located in southeastern Duchesne County and southwestern Uintah County:

Salt Lake Meridian, Utah

Tps. 8 S., Rs. 15 thru 19 E.

Tps. 9 S., Rs. 15 thru 19 E.

The areas described, including both Federal and non-Federal lands, aggregate 119,784.12 acres.

The BLM's purpose and need for the action is to respond to Newfield's proposal. The BLM intends to approve, approve with modifications, or disapprove Newfield's proposed project and project components based on the analysis of potential impact in the Final EIS and related documents. As part of this process, the BLM worked with Newfield, the State of Utah, Environmental Protection Agency Region 8 (EPA) to develop measures designed to avoid, minimize, or mitigate environmental impacts to the extent possible, while allowing Newfield to exercise its valid existing lease rights. The Federal Land Policy and Management Act of 1976 recognizes oil and gas development as one of the uses of the public lands. Federal mineral leasing statutes, including the Mineral Leasing Act of 1920, 30 U.S.C. 181 et seq., and their implementing regulations recognize the right of lease holders to develop Federal mineral resources to meet continuing national needs and economic demands, subject to lease stipulations and reasonable measures that the BLM may require to minimize adverse impacts.

The BLM is the lead Federal agency for this Final EIS. Cooperating agencies include the EPA, Utah's Public Lands Policy and Coordination Office, and Duchesne and Uintah Counties.

On August 25, 2010, the BLM published in the Federal Register a Notice of Intent (NOI) to prepare an EIS. Public response to the NOI and public meetings included seven letters: Two from Federal agencies, one from a State agency, one from a county agency, and three from industry or private individuals. Comments focused on air quality impacts, impacts to adjacent gilsonite mining operations, recognition of valid existing lease rights, requests for flexibility in the decision, economic benefits, water impacts and protection, produced water treatment and management alternatives, noise impacts to wildlife and residences, weed expansion, the BLM's statutory and regulatory authority to manage air resources, and resource management plan (RMP) conformance.

On December 20, 2013, the BLM published a Notice of Availability in the Federal Register announcing the availability of the Draft EIS. The Draft EIS was made available for a 45-day public comment period, which was subsequently extended by an additional 30 days at the request of the State of Utah. Twenty-three unique comment letters or emails were submitted: One from a Federal agency, one from the House of Representatives, one from a State agency, two from county governments, one from the proponent (Newfield), nine from other oil and gas industry representatives or trade groups, one from the proponent's outside legal counsel, one from a non-governmental organization, and six from private individuals. There were also 1,780 form letters received from members of the public that expressed concern regarding ozone impacts, and 161 form letters received from Newfield employees that expressed concern over impacts to their livelihoods from the Agency Preferred Alternative. Substantive comments focused on technical flaws, water impacts and protection, air quality impacts, the BLM's statutory or regulatory authority to protect air quality or enforce air quality laws, economic benefits and losses, protection of wetlands and streams, produced water treatment and management alternatives, and surface restrictions in the Pariette Wetlands Area of Critical Environmental Concern (ACEC) and Sclerocactus core conservation areas.

The parameters of the Agency Preferred Alternative, Alternative D, were adjusted between the Draft EIS and the Final EIS in response to issues raised during the public comment period, which were not considered when the alternative was originally designed. The BLM engineers determined that the data provided regarding these technical issues was accurate and that measures presented in Alternative D adversely affected the proponent's ability to diligently and efficiently develop oil and gas resources in the MBPA consistent with their valid existing rights. The BLM also determined that other adjustments to the alternative were necessary. Since these adjustments were all within the range of alternatives considered in the Draft EIS, the BLM determined that a supplement to the Draft EIS was not necessary. However, the review period following release of the Final EIS has been extended to 45 days to provide additional time for review of these changes prior to BLM making a decision on the project.

The Final EIS describes and analyzes the impacts of Newfield's Proposed Action and three alternatives, including the No Action Alternative. The following is a summary of the alternatives:

1. Proposed Action—Up to 5,750 new oil or gas wells would be drilled over a period of 16 years. Additionally, this alternative includes the construction of approximately 243 miles of new roads and pipelines, 363 miles of new pipeline adjacent to existing roads, 21 new compressor stations, one gas processing plant, 7 new water treatment and injection facilities, 12 gas and oil separation plants, 6 water pump stations, as well as the drilling of a freshwater collector well, and the expansion of 6 existing water treatment and injection facilities and 3 existing compressor stations. Total new surface disturbance under the Proposed Action would be approximately 16,129 acres, which would be reduced to 7,808 acres through interim reclamation.

2. No Action Alternative—Drilling and completion of development wells and infrastructure would continue as previously approved, and the proposed natural gas development on BLM lands as described in the Proposed Action would not be implemented. Based on the foregoing documents and a review of information from Utah Division of Oil, Gas and Mining, the BLM has estimated that, as of December 31, 2012, 788 wells remain to be drilled including construction of roads, pipelines, and additional support facilities. Total new surface disturbance under the No Action Alternative would be 870 acres of new disturbance, which would be reduced to 659 acres through interim reclamation.

3. Field-wide Electrification Alternative—This alternative is identical to the Proposed Action, in that it would allow the drilling of up to 5,750 new wells in addition to the existing producing wells, with associated facilities. However, this alternative also incorporates a phased field-wide electrification component which consists of construction of 34 miles of overhead cross-country 69kV transmission lines, 156 miles of distribution lines, and 11 substations. Total new surface disturbance under this alternative would be approximately 20,112 acres, which would be reduced to 10,173 acres through interim reclamation.

4. Agency Preferred (Resource Protection) Alternative—This alternative was revised to meet the purpose and need for the project while: (1) Protecting the relevant and important values of the Pariette Wetlands ACEC; (2) minimizing the amount of new surface disturbance and habitat fragmentation within and around the Fish and Wildlife Service proposed Level 1 and 2 Core Conservation Areas (for two federally-listed plant species: The Uinta Basin hookless cactus and the Pariette cactus); (3) precluding new well pads (with the exception of Newfield's proposed water collector well) and minimizing new surface disturbance (roads or pipelines) within 100-year floodplains; (4) precluding new well pads, pipelines, or roads within riparian habitats; and, (5) minimizing overall impacts from the proposed oil and gas development through the use of directional drilling technology. Under the Resource Protection Alternative, up to 5,750 new wellbores would be drilled. Additionally, this alternative includes the construction of approximately 226 miles of new roads and pipelines, 318 miles of new pipeline adjacent to existing roads, 21 new compressor stations, a gas processing plant, 7 new water treatment and injection facilities, 12 gas and oil separation plants, 6 water pump stations, as well as the drilling of a freshwater collector well, and the expansion of 6 existing water treatment and injection facilities and 3 existing compressor stations. Total new surface disturbance under the Agency Preferred Alternative would be approximately 10,122 acres, which would be reduced to 4,978 acres through interim reclamation.

The Final EIS contains detailed analysis of impacts to: Air quality, including greenhouse gas emissions; geology and minerals; paleontological resources; soil, surface water and groundwater resources; vegetation, including weeds; range, including livestock grazing; fish and wildlife, including migratory birds and raptors; special status wildlife and plant species; cultural resources; land use and transportation; recreation; visual resources; special designations, including Pariette Wetlands ACEC, Lower Green River Corridor ACEC, and Suitable Lower Green River Wild and Scenic River; and social and economic resources, including environmental justice. Based on the impact analysis, on-site, landscape and compensatory conservation and mitigation actions have been identified for each alternative to achieve resource objectives.

Also worth noting are changes between the draft and final EIS to the air quality section. In the Draft EIS BLM committed to conducting photochemical modeling post-ROD through the Air Resource Management Strategy modeling platform. However, that modeling platform became available shortly after the comment period on the Draft EIS closed, so that modeling was conducted for, and the results are included in, the Final EIS. Upon review of those modeling results, applicant-committed air quality mitigation measures were refined, and additional applicant- and BLM-committed measures to further reduce emissions from the MBPA were included in the Final EIS. This robust suite of measures was developed in consultation between Neufield, the BLM, EPA and the State of Utah. The robust measures will help minimize and mitigate impacts to important air resource values. These measures have been analyzed in the Final EIS and are within the range of alternative analyzed in the Draft EIS.

All required consultations, including Endangered Species Act section 7 Consultation, National Historic Preservation Act section 106 Consultation, and government-to-government consultation with interested Native American Tribes, have been completed. During the section 7 Consultation for the Final EIS, many additional applicant- and agency-committed mitigation measures, including a detailed Conservation, Restoration and Mitigation Strategy for the Pariette and Uinta Basin Hookless Cactus, were developed and incorporated into the Agency Preferred Alternative. This process is explained in greater detail in the Biological Opinion. The Biological Assessment, Biological Opinion, and additional mitigation measures and cactus strategy are all attached to the Final EIS as Appendix J.

Since the publication of the Monument Butte Draft EIS, the Utah Greater Sage-Grouse Land Use Plan Amendment Record of Decision (ROD) has been issued. No Sagebrush Focal Areas, General Habitat Management Areas, or Priority Habitat Management Areas are present within the Monument Butte project boundary. Therefore, the BLM determined that the provisions of the Utah Greater Sage-Grouse Land Use Plan Amendment do not affect the MBPA.

After the conclusion of Final EIS review period, the BLM will issue a ROD which will describe the selected alternative and any conditions of approval, including a mitigation strategy.

The selected alternative will be conceptual only. Any well pads, roads, pipelines and other facilities and infrastructure that may be constructed in the future in the project area will be subject to an appropriate level of site-specific NEPA analysis prior to final approval.

Authority: 40 CFR 1506.6, 40 CFR 1506.10.

Jenna Whitlock,
Acting State Director.

[FR Doc. 2016-15023 Filed 6-23-16; 8:45 am]

BILLING CODE 4310-DQ-P